POSTAL REGULATORY COMMISSION

[Docket No. RM2007-1; Order No. 19]

Notice and Order

AGENCY: Postal Regulatory Commission.

ACTION: Notice of field hearings.

SUMMARY: Recent legislation alters the postal ratemaking process, and tasks the Postal Regulatory Commission to develop regulations to implement this process. This notice informs the public of field hearings that will be held to guide this process.

DATES: 1. June 22, 2007: field hearing, Kansas City, MO (10 a.m.).

2. June 28, 2007: field hearing, Los Angeles, CA.

3. July 9, 2007: field hearing, Wilmington, DE.

ADDRESSES: Submit comments electronically via the Commission's Filing Online system at http://www.prc.gov.

FOR FURTHER INFORMATION CONTACT: Ann Fisher, chief of staff, 202-789-6820 and ann.fisher@prc.gov, or Judy Grady, special assistant to the Chairman, 202-789-6898 and judith.grady@prc.gov (logistics).

SUPPLEMENTARY INFORMATION:

Regulatory History

1. 72 FR 5230 (February 5, 2007).

2. 72 FR 29284 (May 25, 2007).

I. Introduction

The Postal Accountability and Enhancement Act (PAEA) was enacted December 20, 2006.¹ The new law replaces the approach that has guided postal ratemaking and classification since 1970 with a comprehensive new framework. It charges the Postal Regulatory Commission (Commission) with developing a modern system of rate regulation to implement the new framework. To facilitate fulfilling this mandate, the Commission has established Docket No. RM2007-1 to receive written comments on the type and nature of rules needed to effectuate the transition to the new system.

¹ Public Law 109-435.

As part of this rulemaking docket, the Commission has invited mail users from a broad cross-section of the mailing community to testify at several public hearings in locations outside of Washington, DC. At this time, the following dates and locations have been identified: June 22, 2007 in Kansas City, Missouri; June 28, 2007 in Los Angeles, California; and July 9, 2007 in Wilmington, Delaware. Further details on the Kansas City hearing are provided in this notice; any changes related to that hearing and further details concerning the other field hearings will be posted on the Commission's Web site, http://www.prc.gov.

II. Information Applicable to All Field Hearings

Format and record. The Commission has issued invitations to testify based largely on geographic location, the development of a full and complete record, and the need to meet statutory deadlines for issuing implementing regulations. Others who wish to submit comments or testimony may do so via the Commission's electronic filing system. All comments and testimony received, including responses to questions from Commissioners, will be transcribed, posted on the Commission's Web site, and used to inform the Commission's decisions. The public is invited to attend the hearings.

Special accommodations. It is the Commission's understanding that each hearing room is handicapped accessible. Any member of the public who believes his or her attendance may require special accommodations is requested to contact Ann Fisher, chief of staff of the Postal Regulatory Commission, at 202-789-6803 or ann.fisher@prc.gov, as soon as possible.

III. Kansas City, Missouri Hearing

The Kansas City field hearing will be held Friday, June 22, 2007 in Council Chambers, City Hall (26th Floor), 414 E. 12th Street, Kansas City, Missouri 64106. The hearing is scheduled to begin at 10 a.m. and conclude by 12 noon. Scheduled witnesses include: Donald J. Hall, Jr., Vice Chairman, President and Chief Executive Officer, Hallmark Cards, Inc.; David Berry, Vice President, Community Publications Inc.; Mury L. Salls, Senior Vice President, DST Mailing Services; William S. Berkley, President and Chief Executive Officer, Tension Envelope Corporation; and Randy Stumbo, Director of Distribution and Postal Affairs, Meredith Corporation.

Ordering Paragraphs

It is ordered:

1. The Commission will hold hearings in Kansas City, Missouri on June 22, 2007; Los Angeles, California on June 28, 2007; and Wilmington, Delaware on July 9, 2007 to receive testimony on implementation of rules supporting a modern system of rate regulation.

2. The Secretary of the Commission is directed to arrange for publication of this notice and order in the Federal Register.

Issued June 8, 2007.
By the Commission.
Steven W. Williams,
Secretary.

[FR Doc. E7-11466 Filed 6-14-07; 8:45 am]

BILLING CODE 7710-FW-P